DEPARTMENT OF AGRICULTURE

Agricultural Marketing Service

[DA-01-02]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for report forms under the Federal milk marketing order program.

DATES: Comments on this notice must be received by May 8, 2001 to be assured of consideration.

ADDITIONAL INFORMATION OR COMMENTS: Contact William F. Newell, Chief, Order Operations Branch, Dairy Programs, Agricultural Marketing Service, U.S. Department of Agriculture, Room 2753-S., P.O. Box 96456, Washington, DC 20090-6456, (202) 690-2375, e-mail address: William.Newell@usda.gov.

SUPPLEMENTARY INFORMATION: Title: Report Forms Under Federal Milk Orders (From Milk Handlers and Milk Marketing Cooperatives).

OMB Number: 0581-0032.

Expiration Date of Approval: September 30, 2001.

Type of Request: Extension and revision of a currently approved information collection.

Abstract: Federal milk marketing order regulations authorized under the Agricultural Marketing Agreement Act of 1937, as amended (7 U.S.C. 601-674), require milk handlers to report in detail the receipts and utilization of milk and milk products handled at each of their plants that are regulated by a Federal order. The data are needed to administer the classified pricing system and related requirements of each Federal order.

Formal rulemaking amendments to the orders must be approved in referenda conducted by the Secretary.

Estimate of Burden: Public reporting burden for this collection of information is estimated to average 1.07 hours per response.

Respondents: Milk handlers and milk marketing cooperatives.

Estimated Number of Respondents: 692.

Estimated Number of Responses per Respondent: 29.

Estimated Total Annual Burden on Respondents: 21,397 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to William F. Newell, Chief, Order Operations Branch, USDA-AMS, Room 2753-S, PO Box 96456, Washington, DC 20090-6456, (202) 690-2375, e-mail address: William.Newell@usda.gov. All comments received will be available for public inspection during regular business hours at the same address.

All responses to this notice will be summarized and included in the request for OMB approval. All comments will become a matter of public record.

Dated: March 5, 2001.
Kenneth C. Clayton,
Acting Administrator, Agricultural Marketing Service.

[FR Doc. 01-5781 Filed 3-8-01; 8:45 am]

BILLING CODE 3410-02-P